DEPARTMENT OF HEALTH AND HUMAN SERVICES

[Document Identifier OS-0990-0323]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before May 17, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0990-0323-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: MedicalCountermeasures.gov.

Type of Collection: Reinstatement without chg.

OMB No.: 0990-0323.

Abstract: Department of Health and Human Services, Administration for Strategic Preparedness and Response (ASPR).

The USG seeks information from stakeholders on available medical countermeasures in development, with a particular interest in products, technologies, and capabilities that have progressed into or beyond clinical trials, have established large-scale cGMP manufacturing capability, or utilize an approved platform. Information regarding diagnostics, therapeutics, vaccines, and other products, technologies, or capabilities relevant to respond to public health emergencies are sought. The TechWatch program, run by ASPR/BARDA, provides the Medicalcountermeasures.gov bdr.hhs.gov portal as a single point of entry for the submission of meeting requests from interested stakeholders with promising MCM products, technologies, and capabilities.

The information collection request is seeking OMB approval for a three (3) year duration. It is expected that any given responded would submit TechWatch meeting requests no more than annually, based on program history. Developers of medical countermeasures respondents will submit a response once and never submit subsequent requests.

Estimated Annualized Burden Table
Type of respondent | Number of respondents | Number of responses per respondent | Average burden per response (in hours) | Total burden hours
Developers of medical countermeasures addressing naturally occurring and intentional public health threats | 350 | 1 | 8/60 | 47
Total | 350 |  |  | 47

Sherrette A. Funn,
Paperwork Reduction Act Reports Clearance Officer, Office of the Secretary.

[FR Doc. 2023-08075 Filed 4-14-23; 8:45 am]

BILLING CODE 4150-37-P